Proclamation 7601 of October 1, 2002

National Domestic Violence Awareness Month, 2002

By the President of the United States of America

A Proclamation

Domestic violence in America is intolerable and must be stopped. According to the 2000 National Crime Victimization Survey, almost 700,000 incidents of violence between partners were documented in our Nation, and thousands more go unreported. And in the past quarter century, almost 57,000 Americans were murdered by a partner. Children who witness domestic violence often grow up believing that physical cruelty in relationships is acceptable behavior, and thus they may tend to perpetuate a cycle of violence in society.

Many Federal, State, and local programs addressing the domestic violence problem have achieved success, bringing greater safety to families. The success of coordinated community-based efforts is helping us win the battle against domestic violence. Community leaders, police, judges, advocates, healthcare workers, and concerned Americans are working together across America to develop solutions to this serious problem and to implement services that will improve our responses when it occurs. For example, many police departments and district attorneys offices have created specialized domestic violence units that cooperate with community advocates to enhance services for victims; and representatives from the faith community frequently provide essential support in areas where there may be no other services available. Programs designed to educate men and women about ways they can help prevent domestic violence are being developed across our Nation. Every citizen has the ability to aid and assist those suffering from domestic abuse and to let victims know that support is available through shelters, hotlines, and other services.

To better assist victims in need, my Administration recently implemented funding for new programs to improve outreach and services for people who are older or who have disabilities.

We have also intensified our efforts to provide meaningful access to Federally sponsored programs for individuals with limited English proficiency, making it easier for them to escape violence, report crime, and gain access to community services.

We must continue to hold domestic abusers accountable; we must punish them to the full extent of the law; and we must prevent them from inflicting more abuse. Protective orders are helpful and can be enforced in every jurisdiction in our country, which means their power extends across State lines and onto tribal lands. This legal authority makes it easier for police and prosecutors to keep aggressors away from their intended targets. Many abusers become more dangerous after court-enforced separation from their victims and often use visitation or exchange of children as an opportunity to inflict abuse. We are working to expand programs that improve the safety of family members in these situations.

During Domestic Violence Awareness Month, I urge all Americans to join together in recommitting themselves to eliminating domestic violence and reaching out to its victims, letting them know that help is available. With dedication and vigilance, we can increase safety for thousands of our citizens and bring hope to countless Americans.

NOW, THEREFORE, I, GEORGE W. BUSH, President of the United States of America, by virtue of the authority vested in me by the Constitution and laws of the United States, do hereby proclaim October 2002 as National Domestic Violence Awareness Month. I urge all Americans to become a part of the coordinated community response to domestic violence and to send the message that this crime will not be tolerated in our Nation.

IN WITNESS WHEREOF, I have hereunto set my hand this first day of October, in the year of our Lord two thousand two, and of the Independence of the United States of America the two hundred and twenty-seventh.

B

[FR Doc. 02-25468

Filed 10-3-02; 8:45 am]

Billing code 3195-01-P